DEPARTMENT OF LABOR

Employment and Training Administration

[OMB 1205-0490]

Comment Request for Information Collection: Self-Employment Assistance for Unemployment Insurance Claimants, Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Self-Employment Assistance (SEA) activities, expiring October 31, 2015.

DATES: Written comments must be submitted to the office listed in the addresses section below on or before June 22, 2015.

ADDRESSES: Submit written comments to Lidia Fiore, Office of Unemployment Insurance, Room S-4524, Employment and Training Administration, U.S. Department of Labor, 200 Constitution Avenue NW., Washington, DC 20210. Telephone number: 202-693-3029 (this is not a toll-free number). Individuals with hearing or speech impairments may access the telephone number above via TTY by calling the toll-free Federal Information Relay Service at 1-877-889-5627 (TTY/TDD). Email: Fiore.Lidia@dol.gov. A copy of the proposed information collection request (ICR), please contact the person above.

SUPPLEMENTARY INFORMATION:

I. Background

The Noncitizen Benefit Clarification and Other Technical Amendments Act of 1998 (Public Law 105-306) permanently authorized the SEA program, which is a reemployment program that helps Unemployment Insurance (UI) claimants start their own businesses, and Public Law 112-96, the Middle Class Tax Relief and Job Creation Act of 2012 (Act) expanded the SEA program to provide states the opportunity to allow UI claimants receiving Extended Benefits to participate in the SEA program. Currently, a handful of states use this reemployment program, for which a minor amount of information (claimants entering the program, and weeks and amounts of dollars paid) is collected under OMB Control Number 1205-0010.

In accordance with statutory requirements and to assist states in establishing, improving, and administering SEA programs (section 2183(a)), the Employment and Training Administration (ETA) uses the ETA 9161 to collect information specific to the SEA program.

Section 2183(b)(1) of the 2012 Act directs the Secretary of Labor to establish reporting requirements for States that have established SEA programs, which shall include reporting on—(A) the total number of individuals who received unemployment compensation and—(i) were referred to a SEA program; (ii) participated in such program; and (iii) received an allowance under such program; (B) the total amount of allowances provided to individuals participating in a SEA program; (C) the total income (as determined by survey or other appropriate method) for businesses that have been established by individuals participating in a SEA program, as well as the total number of individuals employed through such businesses; and (D) any additional information, as determined appropriate by the Secretary. ETA currently uses Form ETA-9161 as an electronic reporting mechanism to collect this required information. In addition to Public Law 112-96, collection of data is used for oversight of the program as authorized under Section 303(a)(6) of the Social Security Act.

Previously such information was collected for participants eligible for Emergency Unemployment Compensation, however that program has expired and authorization for that portion of this data collection is no longer necessary.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with revision

Title: Self-Employment Assistance for UI Claimants, ETA 9161.

OMB Number: 1205-0490.

Affected Public: State Workforce Agencies, SEA participants.

Estimated Total Annual Respondents: 1,607.

Estimated Total Annual Responses: 1,607 respondents × 4 quarterly reports = 6,428 responses.

Estimated Total Annual Burden Hours: 6,456 hours.

Total Estimated Annual Other Cost Burden: There are no other costs associated with this collection of information.

We will summarize and/or include in the request for OMB approval of the ICR, the comments received in response to this comment request; they will also become a matter of public record.

Portia Wu,
Assistant Secretary for Employment and Training, Labor.

[FR Doc. 2015-09479 Filed 4-22-15; 8:45 am]

BILLING CODE 4510-FW-P